DEPARTMENT OF COMMERCE

National Oceanic and Atmospheric Administration

50 CFR Part 635

RIN 0648-XA920

Atlantic Highly Migratory Species; 2012 Atlantic Bluefin Tuna Quota Specifications

AGENCY: National Marine Fisheries Service (NMFS), National Oceanic and Atmospheric Administration (NOAA), Commerce.

ACTION: Notice of public hearings.

SUMMARY: On March 16, 2012, NMFS published a proposed rule to establish 2012 BFT quota specifications, and announced that public hearings would be scheduled in a future notice. In this notice NMFS is announcing public hearings in Gloucester, MA, and Silver Spring, MD, in order to provide greater opportunity for public comment on the proposed rule.

DATES: A hearing will be held on April 4, 2012, from 2 to 4 p.m. in Gloucester, MA, and a hearing will be held on April 10, 2012, from 2:30 to 4 p.m. in Silver Spring, MD. Public comments on the proposed rule must be received on or before April 16, 2012. See SUPPLEMENTARY INFORMATION for further details.

ADDRESSES: As published on March 16, 2012 (77 FR 15712), you may submit comments, identified by “NOAA-NMFS-2012-0048”, by any one of the following methods:

• Electronic Submissions: Submit all electronic public comments via the Federal eRulemaking Portal http://www.regulations.gov. To submit comments via the e-Rulemaking Portal, first click the “submit a comment” icon, then enter “NOAA-NMFS-2012-0048” in the keyword search. Locate the document you wish to comment on from the resulting list and click on the “Submit a Comment” icon on the right of that line.

• Fax: 978-281-9340, Attn: Sarah McLaughlin.

• Mail: Sarah McLaughlin, Highly Migratory Species Management Division, Office of Sustainable Fisheries (F/SF1), NMFS, 55 Great Republic Drive, Gloucester, MA 01930.

• Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Supporting documents, including the 2011 Environmental Assessment, Regulatory Impact Review, and Final Regulatory Flexibility Analysis, as well as others, such as the Highly Migratory Species Fishery Management Plans may be downloaded from the HMS Web site at www.nmfs.noaa.gov/sfa/hms/. These documents also are available by sending your request to Sarah McLaughlin at the mailing address specified above.

The public hearing locations are:

1. Gloucester, MA—NMFS, 55 Great Republic Drive, Gloucester, MA 01930.

2. Silver Spring, MD—NMFS Science Center, 1301 East-West Highway, Silver Spring, MD 20910.

FOR FURTHER INFORMATION CONTACT: Sarah McLaughlin or Brad McHale, 978-281-9260.

SUPPLEMENTARY INFORMATION: Atlantic bluefin tuna, bigeye tuna, albacore tuna, yellowfin tuna, and skipjack tuna (hereafter referred to as “Atlantic tunas”) are managed under the dual authority of the Magnuson-Stevens Fishery Conservation and Management Act (Magnuson-Stevens Act) and the Atlantic Tunas Convention Act (ATCA). As an active member of the International Commission for the Conservation of Atlantic Tunas (ICCAT), the United States implements binding ICCAT recommendations to comply with this international treaty. ATCA authorizes the Secretary of Commerce (Secretary) to promulgate regulations, as may be necessary and appropriate, to implement ICCAT recommendations. The authority to issue regulations under the Magnuson-Stevens Act and ATCA has been delegated from the Secretary to the Assistant Administrator for Fisheries, NMFS.

In the proposed rule, NMFS indicated that dates and locations for public hearings on the proposed action would be specified in a separate document in the Federal Register to be published at a later date. In this document, NMFS is announcing that it will hold a public hearing in Gloucester, MA, and one in Silver Spring, MD. These hearings, in addition to written comment collected via the methods described above, will allow NMFS to collect public comments on the proposed rule, which will assist NMFS in determining the final 2012 BFT quota specifications, consistent with the 2006 Consolidated HMS FMP, the Magnuson-Stevens Act, ATCA, and other applicable law.

Dated: March 26, 2012.
Emily H. Menashes,
Acting Director, Office of Sustainable Fisheries, National Marine Fisheries Service.

[FR Doc. 2012-7578 Filed 3-26-12; 4:15 pm]

BILLING CODE 3510-22-P